SOCIAL SECURITY ADMINISTRATION

[Docket No. SSA-2009-0077]

Privacy Act of 1974, as Amended; Computer Matching Program (SSA/Office of Personnel Management (OPM))—Match #1307

AGENCY: Social Security Administration (SSA)

ACTION: Notice of a renewal of an existing computer matching program that is scheduled to expire on May 28, 2010.

SUMMARY: In accordance with the provisions of the Privacy Act, as amended, this notice announces a renewal of an existing computer matching program that we are currently conducting with OPM.

DATES: We will file a report of the subject matching program with the Committee on Homeland Security and Governmental Affairs of the Senate; the Committee on Oversight and Government Reform of the House of Representatives, and the Office of Information and Regulatory Affairs, Office of Management and Budget (OMB). The matching program will be effective as indicated below.

ADDRESSES: Interested parties may comment on this notice by either telefaxing to (410) 965-0201 or writing to the Deputy Commissioner for Budget, Finance and Management, 800 Altmeyer Building, 6401 Security Boulevard, Baltimore, MD 21235-6401. All comments received will be available for public inspection at this address.

FOR FURTHER INFORMATION CONTACT: The Deputy Commissioner for Budget, Finance and Management as shown above.

SUPPLEMENTARY INFORMATION:

A. General

The Computer Matching and Privacy Protection Act of 1988 (Public Law (Pub. L.) 100-503), amended the Privacy Act (5 U.S.C. 552a) by describing the conditions under which computer matching involving the Federal government could be performed and adding certain protections for persons applying for, and receiving, Federal benefits. Section 7201 of the Omnibus Budget Reconciliation Act of 1990 (Pub. L. 101-508) further amended the Privacy Act regarding protections for such persons.

The Privacy Act, as amended, regulates the use of computer matching by Federal agencies when records in a system of records are matched with other Federal, State, or local government records. It requires Federal agencies involved in computer matching programs to:

(1) Negotiate written agreements with the other agency or agencies participating in the matching programs;

(2) Obtain the approval of the matching agreement by the Data Integrity Boards (DIB) of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

B. SSA Computer Matches Subject to the Privacy Act

We have taken action to ensure that all of our computer matching programs comply with the requirements of the Privacy Act, as amended.

Dated: June 3, 2010.
Stephanie Hall,
Assistant Deputy Commissioner for Budget, Finance and Management.

Notice of Computer Matching Program, SSA With the Office of Personnel Management (OPM)

A. Participating Agencies

SSA and OPM.

B. Purpose of the Matching Program

The purpose of this matching program is to set forth the terms and conditions under which OPM, the source agency, will disclose civil service benefit and payment data to us, the recipient agency. This disclosure will provide us with information necessary to verify an individual's self-certification of eligibility for prescription drug subsidy assistance under section 1860D-14 of the Social Security Act (Act) (42 U.S.C. 1395w-114). This disclosure will also enable us to implement a Medicare outreach program mandated by section 1144 of Title XI of the Act (42 U.S.C. 1320b-14). Information disclosed by OPM will enable us to identify individuals to determine their eligibility for Medicare Savings Programs (MSP) and subsidized Medicare prescription drug coverage and enable us, in turn, to identify these individuals to the States.

C. Authority for Conducting the Matching Program

The legal authority for us to conduct this computer matching is found in sections 1860D-14 and 1860D(a)(3) of the Act, 42 U.S.C. 1395w-114(a)(3) and section 1144(a)(1) of the Act, 42 U.S.C. 1320b-14(a)(1), and section 1144(b)(1) of the Act, 42 U.S.C. 1320b-14(b)(1).

D. Categories of Records and Individuals Covered by the Matching Program

On the basis of certain identifying information as provided by OPM to us, OPM will provide us with electronic files containing civil service benefit and payment data from the OPM system of records (SOR) published as OPM/Central-1 (Civil Service and Insurance Records), on October 8, 1999 (64 FR 54930), as amended on May 3, 2000 (65 FR 25775). We will match the OPM data with the SSA SOR (60-0321), the SSA's Medicare Database.

E. Inclusive Dates of the Matching Program

The matching program will become effective no sooner than 40 days after notice of the matching program is sent to Congress and OMB, or 30 days after publication of this notice in the Federal Register, whichever date is later. The matching program will continue for 18 months from the effective date and may be extended for an additional 12 months thereafter, if certain conditions are met.

[FR Doc. 2010-13829 Filed 6-8-10; 8:45 am]

BILLING CODE 4191-02-P